DEPARTMENT OF HEALTH AND HUMAN SERVICES

Centers for Disease Control and Prevention

[60Day-22-22CB; Docket No. CDC-2022-0011]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal Agencies the opportunity to comment on a proposed and/or continuing information collection, as required by the Paperwork Reduction Act of 1995. This notice invites comment on a proposed information collection project titled Assessment for the Get Ahead of Sepsis (GAOS) Consumer Campaign. This assessment collects on-line survey data from target consumer groups and healthcare professionals (HCP) before and after the campaign.

DATES: CDC must receive written comments on or before April 1, 2022.

ADDRESSES: You may submit comments, identified by Docket No. CDC-2022-0011 by either of the following methods:

• Federal eRulemaking Portal: Regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; phone: 404-639-7570; Email: omb@cdc.gov.

SUPPLEMENTARY INFORMATION: Under the Paperwork Reduction Act of 1995 (PRA) (44 U.S.C. 3501-3520), Federal Agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Assessment for the Get Ahead of Sepsis (GAOS) Consumer Campaign—New—National Center for Emerging and Zoonotic Infectious Diseases (NCEZID), Centers for Disease Control and Prevention (CDC).

Background and Brief Description

Sepsis is a life threating emergency, and it is the body's overactive and toxic response to an infection. Each year 1.7 million adults in the United States develop sepsis, with 270,000 fatalities. Sepsis is the leading cause of death in hospitals and one out of three hospital fatalities are due to sepsis infection. Sepsis management in U.S. hospitals is the highest when compared to inpatient cost for all other medical conditions. Annual costs are estimated to be over $62 billion.

In media and public health campaigns, antimicrobial resistance and sepsis are rarely presented together which does not make their linkage apparent. It has been concluded that sepsis and antimicrobial stewardship should not be discussed in isolation. Surprisingly, 24 percent of adults in the U.S. have never heard of sepsis, so this presents a unique opportunity for future messaging campaigns.

The goals of the GAOS educational campaign are to prevent and reduce infections that lead to sepsis and to optimize healthcare quality and patient safety by raising awareness, knowledge, and motivating behavior change related to sepsis prevention, early recognition, and appropriate treatment among consumer target audiences. A panel survey will be utilized to recruit participants. Surveys will be distributed to consumer target groups and HCPs both before and after the media campaign and partner outreach.

Consumer audiences include:

(1) Cancer patients and their caregivers (English speaking),

(2) Patients who survived severe COVID-19 or sepsis and their caregivers (English speaking),

(3) Women who care for a young child (children ages 12 and younger; English speaking),

(4) Women who care for a young child (children ages 12 and younger; Spanish speaking),

(5) Women who care for an aging parent 65+ (English speaking),

(6) Women who care for an aging parent 65+ (Spanish speaking),

(7) Men aged 65+ with one or more chronic conditions (English speaking), and

(8) Healthy adults 65+ (English speaking).

HCP audiences include:

(1) Emergency Medical Services personnel (English speaking),

(2) Nurse Practitioners and Physician Assistants who work at urgent care clinics (English speaking),

(3) Emergency Department triage nurses (English speaking),

(4) General medical ward staff (English speaking),

(5) Primary care physicians (English speaking),

(6) Long-term care (LTC) nurses (English speaking), and

(7) LTC medical technicians and sitters (English speaking).

This program evaluation will assist CDC in determining if the media campaign, along with partner outreach, was successful in changing awareness, knowledge, and behaviors of consumers and HCPs in select target markets. The data collected will also be used to inform future refinement and implementation of the campaign (materials and tactics).

CDC requests OMB approval for an estimated 68 annual burden hours. There are no costs to respondents other than their time.

Estimated Annualized Burden Hours
Type of respondents | Form name | Number of respondents | Number of responses per respondent | Average burden per response (in hours) | Total burden (in hours)
Consumer | Get Ahead of Sepsis Consumer Pre-test | 50 | 1 | 20/60 | 17
Consumer | Get Ahead of Sepsis Consumer Post-test | 50 | 1 | 20/60 | 17
HCPs | Get Ahead of Sepsis HCP Campaign Pre-test | 50 | 1 | 20/60 | 17
HCPs | Get Ahead of Sepsis HCP Campaign Post-test | 50 | 1 | 20/60 | 17
Total |  |  |  |  | 68

Jeffrey M. Zirger,
Lead, Information Collection Review Office, Office of Scientific Integrity, Office of Science, Centers for Disease Control and Prevention.

[FR Doc. 2022-01885 Filed 1-28-22; 8:45 am]

BILLING CODE 4163-18-P